DEPARTMENT OF THE INTERIOR

Bureau of Ocean Energy Management

[OMB Control Number 1010-NEW; Docket ID: BOEM-2023-0004]

Agency Information Collection Activities; North Atlantic Right Whale Research and Management Activities

AGENCY: Bureau of Ocean Energy Management, Interior.

ACTION: Notice of information collection; request for comment.

SUMMARY: In accordance with the Paperwork Reduction Act of 1995, the Bureau of Ocean Energy Management (BOEM) proposes a new information collection request (ICR).

DATES: Comments must be received by the Office of Management and Budget (OMB) no later than September 11, 2023.

ADDRESSES: Submit your written comments on this ICR to the OMB's desk officer for the Department of the Interior at www.reginfo.gov/public/do/PRAMain. From the www.reginfo.gov/public/do/PRAMain landing page, find this information collection by selecting “Currently under Review—Open for Public Comments” or by using the search function. Please provide a copy of your comments by parcel delivery service or U.S. mail to the BOEM Information Collection Clearance Officer, Anna Atkinson, Bureau of Ocean Energy Management, 45600 Woodland Road, Sterling, Virginia 20166; or by email to anna.atkinson@boem.gov. Please reference OMB Control Number 1010-NEW in the subject line of your comments. You may also comment by searching the docket number “BOEM-2023-0004” at www.regulations.gov.

FOR FURTHER INFORMATION CONTACT: Anna Atkinson by email at anna.atkinson@boem.gov or by telephone at 703-787-1025. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

Title of Collection: “North Atlantic Right Whale Research and Management Activities”

Abstract: BOEM is working on a project to identify and synthesize current North Atlantic right whale (NARW) research and management activities conducted by State and Federal government researchers, academic institutions, and non-governmental organizations (NGOs). This project includes identification of mitigation efforts to avoid or limit impacts on NARWs from offshore wind energy development. This information will provide essential data and stakeholder feedback so that BOEM managers and scientists are better able to predict, mitigate, and monitor any potential conflicts between NARWs and offshore wind energy development.

An important component of this project is the development of the NARW synthesis report, which will include a summary of: (1) existing sources of information related specifically to understanding presence, distribution, and density of NARWs in and around wind energy areas offshore the U.S. Atlantic coast; (2) current approaches for avoiding or limiting impacts to NARWs during construction and operation of offshore wind energy facilities; (3) a listing of mitigation measures recommended by others but not yet adopted; (4) current monitoring requirements and their implementation; and (5) an accounting of emerging technologies that may allow monitoring at project and regional scales.

In order to develop the synthesis report, BOEM seeks OMB approval for a set of standardized questions for NARW stakeholders regarding their activities to understand impacts from offshore wind energy projects on the whales and to ensure effective mitigation monitoring. The questions are designed to learn of recent and ongoing research and management strategies employed by relevant State and Federal governments, academic institutions, and NGOs, including outcomes of prior workshops and planning bodies. BOEM has partnered with the Blue World Research Institute to implement the questionnaire. The questionnaire comprises approximately 20 questions that ask respondents about: (1) their organization; (2) information on current monitoring and research activities, such as objective, location, scope, methods, timelines, outcomes and challenges, and on contributions to NARW conservation or impact reduction; (3) related ancillary information, such as type of study, next steps, and suggestions for priority topics for future funding ; and (4) additional comments and discussion. The questionnaire avoids sensitive topics or matters that are commonly considered private. The results will be summarized as part of the NARW synthesis report.

Additionally, BOEM plans to conduct directed interviews of participants who indicate their willingness to provide additional feedback on future research priorities and management needs. This feedback will be compiled in a final report.

OMB Control Number: 1010-NEW.

Form Number: None.

Type of Review: New.

Respondents/Affected Public: State (and Federal) government researchers, academic institutions, and NGOs.

Total Estimated Number of Annual Responses: 253 responses (213 questionnaire respondents and 40 interviewees).

Total Estimated Number of Annual Burden Hours: 111 hours (40 annual burden hours for interviews and 71 annual burden hours for questionnaire).

Respondent's Obligation: Voluntary.

Frequency of Collection: On occasion.

Total Estimated Annual Non-hour Burden Cost: There is no non-hour cost burden associated with this collection.

A Federal Register notice with a 60-day public comment period on this proposed ICR was published on February 24, 2023 (88 FR 11953). BOEM received one public comment that opposed offshore wind energy projects and the use of sonar due to potential impacts on whales and dolphins. BOEM is committed to assessing and, to the extent possible, reducing the effects of potential environmental impacts on marine life and their habitats. The purpose of this strategy is to protect and promote the recovery of the NARW while responsibly developing offshore wind energy. No change in the burden was required as a result of the comment received.

BOEM is again soliciting comments on the proposed ICR. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record and will be available for public review on www.reginfo.gov. You should be aware that your entire comment—including your address, phone number, email address, or other personally identifiable information included in your comment—may be made publicly available. Even if BOEM withholds your information in the context of this ICR, your comment is subject to the Freedom of Information Act (FOIA). If your comment is requested under FOIA, your information will only be withheld if BOEM determines that a FOIA exemption to disclosure applies. BOEM will make such a determination in accordance with the Department of the Interior's (DOI's) FOIA regulations and applicable law.

In order for BOEM to consider withholding from disclosure your personally identifiable information, you must identify, in a cover letter, any information contained in your comments that, if released, would constitute a clearly unwarranted invasion of your personal privacy. You must also briefly describe any possible harmful consequence of the disclosure of information, such as embarrassment, injury, or other harm.

BOEM protects proprietary information in accordance with FOIA (5 U.S.C. 552) and DOI's implementing regulations (43 CFR part 2).

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2023-17126 Filed 8-9-23; 8:45 am]

BILLING CODE 4340-98-P